DEPARTMENT OF TRANSPORTATION

Federal Aviation Administration

RTCA Special Committee 186: Automatic Dependent Surveillance—Broadcast (ADS-B)

AGENCY: Federal Aviation Administration (FAA), DOT.

ACTION: Notice of RTCA Special Committee 186 meeting.

SUMMARY: The FAA is issuing this notice to advise the public of a meeting of RTCA Special Committee 186: Automatic Dependent Surveillance—Broadcast (ADS-B).

DATES: The meeting will be held December 5-8, 2005 starting at 9 a.m. (unless stated otherwise)

ADDRESSES: The meeting will be held at RTCA, Inc., 1828 L Street, NW., Suite 805, Washington, DC 20036.

FOR FURTHER INFORMATION CONTACT: RTCA Secretariat, 1828 L Street, NW, Suite 805, Washington, DC, 20036; telephone (202) 833-9339; fax (202) 833-9434; Web site http://www.rtca.org.

SUPPLEMENTARY INFORMATION: Pursuant to section 10(a)(2) of the Federal Advisory Committee Act (Pub. L. 92-463, U.S.C., Appendix 2), notice is hereby given for a Special Committee 186 meeting. Note: Specific working group sessions will be held on December 5, 6 &7.

• December 5:

• ASAS MOPS—STP Subgroup.

• December 6:

• ASAS MOPS—CDTI Subgroup.

• ASAS MOPS—STP Subgroup.

• December 7:

• ASAS MOPS—CDTI Subgroup.

• ASAS MOPS—STP Subgroup.

• WG-3—1090 MHz MOPS.

Note: ASAS—Aircraft Surveillance Applications System.

CDTI—Cockpit Display of Traffic Information.

MOPS—Minimum Operational Performance Standards.

STP—Surveillance Transmit Processing.

The plenary agenda will include:

• December 8:

• Opening Plenary Session (Chairman's Introductory Remarks, Review of Meeting Agenda, Review/Approval of Previous Meeting Summary, RTCA Paper No. 208-04/SC186-224).

• SC-186 Activity Reports.

• WG-1, Operations & Implementation.

• WG-2, Traffic Information Service—Broadcast (TIS-B).

• WG-3, 1090 MHz Minimum Operational Performance Standard (MOPS).

• WG-4, Application Technical Requirements.

• WG-5, Universal Access Transceiver (UAT) MOPS.

• WG-6, Automatic Dependent Surveillance-Broadcast (ADS-B) Minimum. Aviation System Performance Standards (MASPS).

• Requirement Focus Group.

• EUROCAE WG-51 Activity Report.

• Discussion—Safe Flight 21/JRC Status/Plans.

• Discussion—RFG Non-Radar Areas Applications.

• STP MOPS Review.

• Closing Plenary Session (New Business, Other Business, Review Action Items/Work Program, Data, Place and Time of Next Meeting, Other Business, Review Actions Items/Work Program, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 3, 2005.
Natalie Ogletree,
FAA General Engineer, RTCA Advisory Committee.

[FR Doc. 05-22399 Filed 11-9-05; 8:45am]

BILLING CODE 4910-13-M